Proclamation of 8667 of April 29, 2011

National Day of Prayer, 2011

By the President of the United States of America

A Proclamation

Throughout our history, Americans have turned to prayer for strength, inspiration, and solidarity.

Prayer has played an important role in the American story and in shaping our Nation’s leaders. President Abraham Lincoln once said, “I have been driven many times upon my knees by the overwhelming conviction that I had nowhere else to go. My own wisdom and that of all about me seemed insufficient for the day.” The late Coretta Scott King recounted a particularly difficult night, during the Montgomery bus boycott, when her husband, the Reverend Dr. Martin Luther King, Jr., received a threatening phone call and prayed at the kitchen table, saying, “Lord, I have nothing left. I have nothing left. I have come to the point where I can’t face it alone.” Dr. King said, in that moment of prayer, he was filled with a sense of comfort and resolve, which his wife credited as a turning point in the civil rights movement.

It is thus fitting that, from the earliest years of our country’s history, Congress and Presidents have set aside days to recognize the role prayer has played in so many definitive moments in our history. On this National Day of Prayer, let us follow the example of President Lincoln and Dr. King. Let us be thankful for the liberty that allows people of all faiths to worship or not worship according to the dictates of their conscience, and let us be thankful for the many other freedoms and blessings that we often take for granted.

Let us pray for the men and women of our Armed Forces and the many selfless sacrifices they and their families make on behalf of our Nation. Let us pray for the police officers, firefighters, and other first responders who put themselves in harm’s way every day to protect their fellow citizens. And let us ask God for the sustenance and guidance for all of us to meet the great challenges we face as a Nation.

Let us remember in our thoughts and prayers those who have been affected by natural disasters at home and abroad in recent months, as well as those working tirelessly to render assistance. And, at a time when many around the world face uncertainty and unrest, but also hold resurgent hope for freedom and justice, let our prayers be with men and women everywhere who seek peace, human dignity, and the same rights we treasure here in America.

The Congress, by Public Law 100-307, as amended, has called on the President to issue each year a proclamation designating the first Thursday in May as a “National Day of Prayer.”

NOW, THEREFORE, I, BARACK OBAMA, President of the United States of America, do hereby proclaim May 5, 2011, as a National Day of Prayer. I invite all citizens of our Nation, as their own faith or conscience directs them, to join me in giving thanks for the many blessings we enjoy, and I ask all people of faith to join me in asking God for guidance, mercy, and protection for our Nation.

IN WITNESS WHEREOF, I have hereunto set my hand this twenty-ninth day of April, in the year of our Lord two thousand eleven, and of the Independence of the United States of America the two hundred and thirty-fifth.

[FR Doc. 2011-11070

Filed 5-4-11; 8:45 am]

Billing code 3195-W1-P